DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold a two-day open meeting to the public on Tuesday, May 9, 2023, from 8:30 a.m. to 5:30 p.m. at the U.S. Capitol Visitor Center, Washington, DC, and on Wednesday, May 10, 2023, from 8:45 a.m. to 4 p.m. at the American Legion, Washington, DC.

ADDRESSES: The RFPB meeting address is the Capitol Visitor Center, First Street SE, Washington, DC, on May 9, 2023, and the American Legion Headquarters, 1608 K Street NW, Washington, DC, on May 10, 2023.

FOR FURTHER INFORMATION CONTACT: Colonel Rich Sudder, Designated Federal Officer (DFO) at richard.m.sudder.mil@mail.mil or (571) 236-7991. Mailing address: Reserve Forces Policy Board, 5109 Leesburg Pike, Suite 501, Falls Church, VA 22041. Website: https://rfpb.defense.gov/. The most up-to-date changes to the meeting agenda can be found on the website.

SUPPLEMENTARY INFORMATION: This meeting is being held under the provisions of chapter 10 of title 5, U.S.C. (commonly known as the “Federal Advisory Committee Act” or “FACA”), section 552b of title 5, U.S.C. (commonly known as the “Government in the Sunshine Act”), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a two-day open meeting to the public on Tuesday, May 9, 2023, from 8:30 a.m. to 5:30 p.m., and Wednesday, May 10, 2023, from 8:45 a.m. to 4 p.m. The May 9 meeting at the Capitol Visitor Center will focus on discussions with: the Secretary of Defense (invited), or designee, will address key National Defense Strategy challenges facing our Nation, and the priorities for the Total Force integrating the Reserve Component; representatives from the Reserve Organization of America will provide an update on their priorities involving the Reserve Component, families, and veterans; National Guard Association of the United States representatives will discuss priorities to improve the relevance, readiness, and modernization of the National Guard, to include quality of life initiatives; a representative of the Blue Star Families will discuss their priorities to strengthen military families and programs to solve the unique challenges of military family life; a representative from Women in Military Service will present on military women and their service, courage, patriotism, and leadership; National Guard and Reserve Component representatives will provide updates on the status of current legislative proposals and their impacts to the Reserve Components; the RFPB subcommittee break-out sessions with the Subcommittee for Integration of Total Force Personnel Policy, the Subcommittee for the Reserve Components' Role in Homeland Defense and Support to Civil Authorities, and the Subcommittee for Total Force Integration will conduct discussions on their subcommittees' priorities and focus areas received from this meeting's discussions and other areas where the Board can best provide support to the taskings of the Secretary of Defense and the sponsor, the Under Secretary of Defense for Personnel and Readiness (USD(P&R)); key representatives from the Senate Armed Services Committee's (SASC) Personnel Subcommittee and Airland Subcommittee, the Senate Committee on Homeland Security and Governmental Affairs, the House Armed Services Committee's (HASC) Military Personnel Subcommittee and Tactical Air and Land Forces Subcommittee, the House Committee on Homeland Security, the Guard and Reserve Components Caucus, and the For Country Caucus, will discuss their respective committee and subcommittee initiatives, policies, and programs directly related to the National Guard and Reserve Components; and lastly, end of day remarks by the RFPB Chair.

The May 10 meeting at the American Legion, Washington, DC, will focus on discussions with: key representatives from the Office of Secretary of Defense (OSD) and the Military Services will discuss recruiting initiatives, marketing strategies, and projections from each Service's end-strength goals; key representatives from the Office for Diversity, Equity, and Inclusion, Office of the USD(P&R), will discuss Department of Defense's initiatives and priorities to ensure a diverse workforce; the RFPB subcommittee break-out sessions with the Subcommittee for Integration of Total Force Personnel Policy, the Subcommittee for the Reserve Components' Role in Homeland Defense and Support to Civil Authorities, and the Subcommittee for Total Force Integration will conduct discussions on their subcommittees' priorities and focus areas received from this meeting's discussions and other areas where the Board can provide support to the taskings of the Secretary of Defense and the sponsor, USD(P&R), involving the Reserve Component; Major General Anne Gunter, Special Assistant to the Chief, Air Force Reserve for Reserve Space Personnel Policy and Integration, will provide updates on the status of the Space Force legislative proposals and consideration for the part-time force of a single Space Component; Honorable Debra Wada, Chair of the RFPB's Subcommittee on Integration of Total Force Personnel Policy, will provide updates to the Board on subcommittee discussion and deliberations to determine where the RFPB can provide support to the taskings of the Secretary of Defense and the sponsor, USD(P&R); and will conclude with the RFPB Chair's closing remarks.

Meeting Accessibility: Pursuant to 5 U.S.C. 552b, as amended and 41 CFR 102-3.140 through 102-3.165, and subject to the availability of space, the meeting is open to the public from 8:30 a.m. to 5:30 p.m. on May 9, 2023, and from 8:45 a.m. to 4 p.m. on May 10, 2023. Seating is based on a first-come, first-served basis. All members of the public who wish to attend the public meeting must contact Colonel Rich Sudder, the DFO, no later than 12 p.m. on Monday, May 1, 2023, as listed in the FOR FURTHER INFORMATION CONTACT section.

Written Statements: Pursuant to 41 CFR 102-3.105(j) and 102-3.140 and section 10(a)(3) of the FACA, interested persons may submit written statements to the RFPB at any time about its approved agenda or at any time on the Board's mission. Written statements should be submitted to the RFPB's DFO at the email address listed in the FOR FURTHER INFORMATION CONTACT section. If statements pertain to a specific topic being discussed at the planned meeting, then these statements must be submitted no later than 5 business days prior to the meeting in question. Written statements received after this date may not be provided to or considered by the RFPB until its next meeting. The DFO will review all timely submitted written statements and provide copies to all the committee members before the meeting that is the subject of this notice. Please note that since the RFPB operates under the provisions of the FACA, all submitted comments and public presentations will be treated as public documents and will be made available for public inspection, including, but not limited to being posted on the RFPB's website.

Dated: April 19, 2023.
Aaron T. Siegel,
Alternate OSD Federal Register Liaison Officer, Department of Defense.

[FR Doc. 2023-08618 Filed 4-21-23; 8:45 am]

BILLING CODE 5001-06-P